COMMODITY FUTURES TRADING COMMISSION

Market Risk Advisory Committee

AGENCY: Commodity Futures Trading Commission.

ACTION: Notice of meeting.

SUMMARY: The Commodity Futures Trading Commission (CFTC) announces that on November 17, 2016 from 10:00 a.m. to 1:30 p.m., the Market Risk Advisory Committee (MRAC) will hold a public meeting at the CFTC's Washington, DC, headquarters. The meeting will be held in the Conference Center at the Commodity Futures Trading Commission's headquarters in Washington, DC. At this meeting: (1) The CCP Risk Management Subcommittee (CRM) will present to the MRAC its final recommendations on how Central Counterparties (CCPs) can further enhance their efforts in preparing for the default of a significant clearing member as discussed at the April 2, 2015, November 2, 2015, and June 27, 2016 meetings of the MRAC; and (2) the MRAC will discuss the Bank of England's coordinated CCP default fire drill.

DATES: The meeting will be held on November 17, 2016 from 10:00 a.m. to 1:30 p.m. Members of the public who wish to submit written statements in connection with the meeting should submit them by November 24, 2016.

ADDRESSES: The meeting will take place in the Conference Center at the CFTC's headquarters, Three Lafayette Centre, 1155 21st Street NW., Washington, DC 20581. Written statements should be submitted by mail to: Commodity Futures Trading Commission, Three Lafayette Centre, 1155 21st Street NW., Washington, DC 20581, attention: Office of the Secretary, or by electronic mail to: secretary@cftc.gov. Please use the title “Market Risk Advisory Committee” in any written statement you submit. Any statements submitted in connection with the committee meeting will be made available to the public, including publication on the CFTC Web site, http://www.cftc.gov.

FOR FURTHER INFORMATION CONTACT: Petal Walker, MRAC Designated Federal Officer, Commodity Futures Trading Commission, Three Lafayette Centre, 1155 21st Street NW., Washington, DC 20581; (202) 418-5010.

SUPPLEMENTARY INFORMATION: The meeting will be open to the public with seating on a first-come, first-served basis. Members of the public may also listen to the meeting by telephone by calling a domestic toll-free telephone or international toll or toll-free number to connect to a live, listen-only audio feed. Call-in participants should be prepared to provide their first name, last name, and affiliation.

Domestic Toll Free: 866-844-9416.

International Toll and Toll Free: Will be posted in the latest press release for the meeting on the MRAC's meetings Web page, http://www.cftc.gov/About/CFTCCommittees/MarketRiskAdvisoryCommittee/mrac_meetings. After opening the latest press release, click on Related Links for the number(s).

Pass Code/Pin Code: CFTC.

The meeting agenda may change to accommodate other MRAC priorities. For agenda updates, please visit the MRAC meetings Web page. After the meeting, a transcript of the meeting will be published through a link on the CFTC's Web site, http://www.cftc.gov. All written submissions provided to the CFTC in any form will also be published on the CFTC's Web site. Persons requiring special accommodations to attend the meeting because of a disability should notify the contact person above.

Authority: 5 U.S.C. app. 2 § 10(a)(2).

Dated: October 27, 2016.
Robert N. Sidman,
Deputy Secretary of the Commission.

[FR Doc. 2016-26426 Filed 11-1-16; 8:45 am]

BILLING CODE 6351-01-P